DEPARTMENT OF THE INTERIOR

Fish and Wildlife Service

Availability of Draft Comprehensive Conservation Plan and Environmental Assessment for Flint Hills National Wildlife Refuge, Hartford, KS

AGENCY: Fish and Wildlife Service, Interior.

ACTION: Notice of Availability.

SUMMARY: Pursuant to the Refuge Improvement Act of 1997, the U.S. Fish and Wildlife Service has published the Draft Flint Hills National Wildlife Refuge Comprehensive Conservation Plan and Environmental Assessment. This Plan describes how the FWS intends to manage the Flint Hills NWR for the next 10-15 years.

DATES: Submit written comments by July 20, 2000. All comments need to be addressed to: Adam Misztal, Refuge Planner, Land Acquisition and Refuge Planning, U.S. Fish and Wildlife Service, P.O. Box 25486, DFC, Denver, CO 80225.

ADDRESSES: A copy of the Draft Plan may be obtained by writing to U.S. Fish and Wildlife Service, Flint Hills NWR, P.O. Box 128, Hartford, KS 66854 or download from http://www.r6.fws.gov/larp/.

FOR FURTHER INFORMATION CONTACT: Adam Misztal, U.S. fish and Wildlife Service, P.O. Box 25486 DFC, Denver CO 80225, 303/236-8145 extension 607: fax 303/236-8680: E-Mail: adam_misztal@fws.gov.

SUPPLEMENTARY INFORMATION: Flint Hills National Wildlife Refuge straddles the Neosho River in eastern Kansas. The area is dominated by complex resource management issues revolving around the flood control function of John Redmond Reservoir. Activities associated with agriculture, flood control, and public recreation have placed increasing demands on the landscape and identified the need for more responsible utilization of land and water resources that support the remaining native ecosystem components.

Flint Hills National Wildlife Refuge will continue to conserve habitat for the diverse array of native plants and animals that rely upon the resources of the Refuge for survival. This Plan describes the conservation activities that the Fish and Wildlife Service intends to carry out on Flint Hills NWR and other areas of the Neosho watershed.

Dated: June 8, 2000.
Patricia L. Smith,
Acting Regional Director, Denver, Colorado.

[FR Doc. 00-15465 Filed 6-19-00; 8:45 am]

BILLING CODE 4310-10-55-M